DEPARTMENT OF HOMELAND SECURITY

U.S. Citizenship and Immigration Services

[OMB Control Number 1615-0116]

Agency Information Collection Activities: Request for an Individual Fee Waiver, Form Number I-912; Extension of a Currently Approved Collection

ACTION: 60-Day Notice.

SUMMARY: The Department of Homeland Security, U.S. Citizenship and Immigration Services (USCIS) will be submitting the following information collection request for review to the Office of Management and Budget (OMB) and clearance in accordance with the Paperwork Reduction Act of 1995. This information collection notice is published in the Federal Register to obtain comments from the public and affected agencies.

During this 60-day period, USCIS will be evaluating whether to revise the Form I-912. Should USCIS decide to revise Form I-912 we will advise the public when we publish the 30-day notice in the Federal Register in accordance with the Paperwork Reduction Act. The public will then have 30 days to comment on any revisions to the Form I-912.

DATES: Comments are encouraged and will be accepted for sixty days until October 22, 2012.

ADDRESSES: Written comments and/or suggestions regarding the item(s) contained in this notice, especially regarding the estimated public burden and associated response time, should be directed to the Department of Homeland Security (DHS), and to the Office of Management and Budget (OMB) USCIS Desk Officer. Comments may be submitted to: USCIS, Chief, Regulatory Coordination Division, Office of Policy and Strategy, Clearance Office, 20 Massachusetts Avenue, Washington, DC 20529. Comments may also be submitted to DHS via email at uscisfrcomment@dhs.gov, and OMB USCIS Desk Officer via facsimile at 202-395-5806 or via email at oira_submission@omb.eop.gov. When submitting comments by email please make sure to add OMB Control Number 1615-0116 in the subject box. Comments may also be submitted via the Federal eRulemaking Portal Web site at http://www.Regulations.gov under e-Docket ID number USCIS-2010-0008.

All submissions received must include the agency name and Docket ID. Regardless of the method used for submitting comments or material, all submissions will be posted, without change, to the Federal eRulemaking Portal at http://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of http://www.regulations.gov.

Note: The address listed in this notice should only be used to submit comments concerning this information collection. Please do not submit requests for individual case status inquiries to this address. If you are seeking information about the status of your individual case, please check “My Case Status” online at: https://egov.uscis.gov/cris/Dashboard.do, or call the USCIS National Customer Service Center at 1-800-375-5283.

Written comments and suggestions from the public and affected agencies concerning the collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this Information Collection:

(1) Type of Information Collection: Extension of information collection.

(2) Title of the Form/Collection: Request for an Individual Fee Waiver.

(3) Agency form number, if any, and the applicable component of the Department of Homeland Security sponsoring the collection: Form I-912; USCIS.

(4) Affected public who will be asked or required to respond, as well as a brief abstract: Primary: Individuals or households. The collection of information on Form I-912 is necessary in order for U.S. Citizenship and Immigration Services (USCIS) to make a determination that the applicant is unable to pay the application fee for certain immigration benefits.

(5) An estimate of the total number of respondents and the amount of time estimated for an average respondent to respond: 400,000 responses at 1 hour and 10 minutes (1.17 hours) per response.

(6) An estimate of the total public burden (in hours) associated with the collection: 468,000 annual burden hours.

If you need a copy of the information collection instrument, please visit the Web site at: http://www.regulations.gov/.

We may also be contacted at: USCIS, Regulatory Coordination Division, 20 Massachusetts Avenue NW., Washington, DC 20529, Telephone number 202-272-1470.

Dated: August 15, 2012.
Laura Dawkins,
Chief, Regulatory Coordination Division, Office of Policy and Strategy, U.S. Citizenship and Immigration Services, Department of Homeland Security.

[FR Doc. 2012-20522 Filed 8-20-12; 8:45 am]

BILLING CODE 9111-97-P